DEPARTMENT OF ENERGY

Federal Energy Regulatory Commission

Combined Notice of Filings #2

Take notice that the Commission received the following electric rate filings:

Docket Numbers: ER16-2293-003.

Applicants: Drift Sand Wind Project, LLC.

Description: Notice of Non-Material Change in Status of Drift Sand Wind Project, LLC.

Filed Date: 1/13/17.

Accession Number: 20170113-5175.

Comments Due: 5 p.m. ET 2/3/17.

Docket Numbers: ER17-787-000.

Applicants: Southern California Edison Company.

Description: Tariff Cancellation: Termination of 3 DSAs with ECOS Energy, LLC to be effective 3/15/2017.

Filed Date: 1/13/17.

Accession Number: 20170113-5127.

Comments Due: 5 p.m. ET 2/3/17.

Docket Numbers: ER17-788-000.

Applicants: Southern California Edison Company.

Description: § 205(d) Rate Filing: DSA Wildomar Solar Project SA No. 939 to be effective 3/15/2017.

Filed Date: 1/13/17.

Accession Number: 20170113-5128.

Comments Due: 5 p.m. ET 2/3/17.

Docket Numbers: ER17-789-000.

Applicants: Southern California Edison Company.

Description: § 205(d) Rate Filing: GIA and Distribution Service Agmt Richard Moss to be effective 1/17/2017.

Filed Date: 1/13/17.

Accession Number: 20170113-5129.

Comments Due: 5 p.m. ET 2/3/17.

Docket Numbers: ER17-790-000.

Applicants: Cimarron Bend Wind Project II, LLC.

Description: Baseline eTariff Filing: MBR Tariff to be effective 3/1/2017.

Filed Date: 1/13/17.

Accession Number: 20170113-5133.

Comments Due: 5 p.m. ET 2/3/17.

Docket Numbers: ER17-791-000.

Applicants: Duke Energy Florida, LLC.

Description: § 205(d) Rate Filing: DEF-U.S. EcoGen Polk LGIA SA No. 180 to be effective 3/14/2017.

Filed Date: 1/13/17.

Accession Number: 20170113-5152.

Comments Due: 5 p.m. ET 2/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2017.
Nathaniel J. Davis, Sr.,
Deputy Secretary.

[FR Doc. 2017-01351 Filed 1-19-17; 8:45 am]

BILLING CODE 6717-01-P